DEPARTMENT OF THE INTERIOR

Fish and Wildlife Service

[FWS-R6-ES-2012-N159; FXES11130600000D2-123-FF06E00000]

Endangered and Threatened Wildlife and Plants; Issuance of Recovery Permits

AGENCY: Fish and Wildlife Service, Interior.

ACTION: Notice of issuance of permits.

SUMMARY: We, the U.S. Fish and Wildlife Service, have issued the following permits, between January and June 2012, to conduct certain activities with endangered species. The Endangered Species Act of 1973, as amended (Act), prohibits activities with endangered and threatened species unless a Federal permit allows such activity. The Act also requires that we invite public comment before issuing these permits for endangered species.

FOR FURTHER INFORMATION CONTACT: Kris Olsen, Permit Coordinator Ecological Services, (303) 236-4256 (phone); permitsR6ES@fws.gov (email).

SUPPLEMENTARY INFORMATION:

Background

The Act (16 U.S.C. 1531 et seq.) prohibits activities with endangered and threatened species unless a Federal permit allows such activity. Along with our implementing regulations in the Code of Federal Regulations (CFR) at 50 CFR part 17, the Act provides for permits.

A permit granted by us under section 10(a)(1)(A) of the Act authorizes applicants to conduct activities with United States endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

We have issued the following permits in response to incidental take and recovery permit applications we received under the authority of section 10 of the Act (16 U.S.C. 1531 et seq.). Each permit listed below was issued only after we determined that it was applied for in good faith; that granting the permit would not be to the disadvantage of the listed species; and that the terms and conditions of the permit were consistent with the purposes and policies set forth in the Act.

Applicant name | Permit No. | Date issued | Date expired
Recovery Permits
Montana Fish, Wildlife, and Parks | 047250 | 01/01/2012 | 09/30/2016
Bureau of Land Management | 059105 | 01/01/2012 | 09/30/2016
California Academy of Sciences | 161444 | 01/01/2012 | 06/30/2015
Colorado Parks and Wildlife | 047290 | 01/01/2012 | 03/13/2017
Department of the Army | 049623 | 01/01/2012 | 06/30/2017
Saratoga National Fish Hatchery | 052204 | 01/01/2012 | 09/30/2016
Colorado State University | 056079 | 01/01/2012 | 06/30/2016
Utah State University | 07858A | 01/01/2012 | 06/30/2017
Kansas Department of Health and Environment | 064685 | 01/01/2012 | 06/30/2017
Detroit Zoo |  |  |
Dakota Zoological Society | 051815 | 01/01/2012 | 06/30/2015
Kleinfelder | 056165 | 01/01/2012 | 03/31/2016
Cedar Creek Associates | 050704 | 01/01/2012 | 09/30/2016
Toronto Zoo | 051841 | 01/01/2012 | 12/31/2016
Louisville Zoo | 051826 | 01/01/2012 | 12/31/2016
Wyoming Natural Diversity Database | 085324 | 01/01/2012 | 09/30/2016
Toledo Zoological Gardens | 052627 | 01/01/2012 | 09/30/2016
Wind Cave National Park | 145090 | 01/01/2012 | 12/31/2016
Colorado Parks and Wildlife | 051368 | 01/01/2012 | 09/30/2016
Denver Botanic Gardens | 106182 | 01/01/2012 | 09/30/2016
Red Butte Garden and Arboretum | 049109 | 01/01/2012 | 09/30/2016
Missouri National Recreational River | 67018A | 01/01/2012 | 09/30/2016
Omaha's Henry Doorly Zoo | 053961 | 01/01/2012 | 09/30/2016
Turner Endangered Species Fund | 051139 | 01/01/2012 | 12/31/2016
Northern Prairie Wildlife Research Center | 121914 | 01/01/2012 | 09/30/2016
Great Plains Fish & Wildlife Conservation Office | 056851 | 01/01/2012 | 09/30/2016
Utah State University | 08832A | 01/01/2012 | 09/30/2016
Two R Ranch Wildlife Consulting | 66793A | 04/23/2012 | 04/30/2017
Niobrara National Scenic River | 053925 | 01/01/2012 | 09/30/2016
Missouri River Fish & Wildlife Conservation Office | 105455 | 01/01/2012 | 12/31/2015
Nebraska National Forests and Grasslands | 051374 | 01/01/2012 | 09/30/2016
Kansas Department of Wildlife and Parks | 052005 | 01/01/2012 | 09/30/2016
Colorado Natural Heritage Program | 059369 | 01/01/2012 | 09/30/2016
Kansas State University | 067729 | 03/13/2012 | 06/30/2016

Availability of Documents

Documents and other information submitted with these applications are available for review, subject to the requirements of the Privacy Act and Freedom of Information Act, by any party who submits a written request for a copy of such documents (see FOR FUTHER INFORMATION CONTACT section of this notice).

Authority

We provide this notice under section 10 of the Act (16 U.S.C. 1531 et seq.).

Dated: July 5, 2012.
Michael G. Thabault,
Acting Regional Director, Mountain-Prairie Region.

[FR Doc. 2012-17451 Filed 7-17-12; 8:45 am]

BILLING CODE 4310-55-P